FEDERAL EMERGENCY MANAGEMENT AGENCY

Radiological Emergency Preparedness: Exercise Credit

AGENCY: Federal Emergency Management Agency (FEMA).

ACTION: Notice with request for comments.

SUMMARY: Pursuant to the Radiological Emergency Preparedness (REP) Program Strategic Review initiative 1.6, the Federal Emergency Management Agency (FEMA) is proposing to implement a policy for granting REP exercise credit to offsite response organizations (ORO) for participation in an actual incident or in a non-REP exercise. The subject notice contains the activities eligible for consideration for credit, guidelines for submitting a request, and documentation required.

DATES: FEMA must receive comments on or before July 5, 2002.

ADDRESSES: You may submit your comments to the Rules Docket Clerk, Office of the General Counsel, Federal Emergency Management Agency, 500 C Street, SW., room 840, Washington, DC 20472, or send them by e-mail to rules@fema.gov. Please reference “REP Exercise Credit” in the subject line of your e-mail or comment letter.

FOR FURTHER INFORMATION CONTACT: Vanessa E. Quinn, Chief, Radiological Emergency Preparedness Branch, Technological Services Division, Federal Emergency Management Agency, 500 C Street, SW., Washington, DC 20472; (202) 646-3664; vanessa.quinn@fema.gov.

SUPPLEMENTARY INFORMATION: Pursuant to the REP Program Strategic Review initiative 1.6, FEMA is proposing to implement a policy for granting REP exercise credit to offsite response organizations for participation in an actual incident or in a non-REP exercise. The subject notice contains the activities eligible for consideration for credit, guidelines for submitting a request, and documentation required.

Background

A radiological emergency response plan is developed and exercised in order to have reasonable assurance that adequate protective measures can be taken in the event of a radiological emergency. FEMA evaluates the exercises to ensure that the OROs have the capability to respond to a radiological emergency. An ORO's response to man-made or natural events or participation in a non-REP exercise may also test all or part of the plan. For those areas that were tested, it may be appropriate to give credit in place of certain aspects of an evaluated REP exercise.

Credit for Responding to an Actual Emergency

When an ORO responds to an actual incident involving radioactive materials, FEMA can consider granting exercise credit for such response activities as environmental monitoring; monitoring for contamination of persons and equipment and/or other activities, if these activities were successfully performed according to the applicable plan and procedures. FEMA may also consider granting credit for generic response activities, such as mobilization of personnel and facilities,¹ for those OROs affected by an actual radiological incident.

¹ FEMA will evaluate all facilities, as a baseline, during the first exercise under the new Evaluation Criteria. Therefore, FEMA will not grant exercise credit for facilities for the first exercise using the new Evaluation Criteria.

When an ORO responds to an actual incident that does not involve radioactive materials, the ORO may qualify for credit for generic response functions and activities, such as mobilization, facilities¹, communications equipment, and congregate care. The Credit columns in Table 1, Federal Evaluation Process Matrix, indicate which functions and activities may be considered for the granting of exercise credit for response to a radiological or a non-radiological emergency.

When requesting exercise credit for a response to an actual emergency, an ORO should ensure that the response included the following four elements:

• A prompt and timely mobilization of key State and local government staff and providers responsible for REP emergency functions;

• An actual reporting of the key REP staff who, in accordance with the plans, would report to the facility;

• Activation of the facility(ies) of the responding jurisdiction(s); and

• Establishment of communication links among responding organizations.

The ORO should then provide the following documentation to FEMA:

1. Type and nature of the emergency;

2. Timeline, to include time of response and time State and local REP staff arrived at the facility;

3. Sign in-out sheet with name, function, date and time;

4. List of involved REP personnel and organizations and their connection to a REP response;

5. Communications log showing the establishment of communication links with other organizations;

6. List of involved jurisdictions;

7. Emergency decisions made and implemented;

8. Resources (facilities, equipment, etc.) used; and

9. List of corrective actions or improvement items identified in the after-action report.

Credit for Participating in Preparedness Exercises Other Than REP

ORO(s) may request REP exercise credit for demonstrating preparedness capabilities in FEMA exercises other than REP. These capabilities could include congregate care, facilities,¹ and/or other activities performed in the exercise. The Credit columns in the attached Table 1 indicate which functions and activities may be considered for the granting of exercise credit for participation in an exercise other than REP when the exercise has a radiological component or when the exercise does not have a radiological component.

¹ FEMA will evaluate all facilities, as a baseline, during the first exercise under the new Evaluation Criteria. Therefore, FEMA will not grant exercise credit for facilities for the first exercise using the new Evaluation Criteria.

ORO credit requests for participating in non-REP exercises must specify the exercise and document the ORO's participation, including the activities it performed and a list of corrective actions or improvement items identified in the exercise after-action report. If credit is granted, the ORO must also include its exercise participation in the Annual Letter of Certification.

Process

An ORO submits its application for credit to the appropriate FEMA Region. The application must specify the basis for the credit (response to a radiological emergency, response to a non-radiological emergency, participation in a radiological exercise other than REP or participation in a non-radiological exercise other than REP) and the REP evaluation area criterion (a) for which credit is requested. The application must also contain the appropriate documentation, as specified above. The FEMA Region will submit the request for credit, along with the Region's review and recommendations, to FEMA Headquarters. FEMA Headquarters will determine whether the credit requested will be granted, and if so, will issue an exemption to an ORO from FEMA evaluation of this criterion (a) in the next REP exercise. However, even if FEMA exempts a criterion from exercise evaluation, certain fundamental radiological emergency response functions and activities that are integral to the REP exercise must still be demonstrated in order to conduct the exercise. FEMA will specify any exempted activities that the ORO must still demonstrate. FEMA will not evaluate these activities unless their demonstration had a potential or actual adverse effect on the REP exercise.

Timeline

The ORO requesting credit for responding to an actual radiological or non-radiological emergency should submit the request to the appropriate FEMA Regional Office within 90 days following the event. The ORO requesting credit for participation in a non-REP exercise should submit the initial information 60 days in advance of the non-REP exercise and follow-up documentation within 90 days after the non-REP exercise. Any credit that is granted must be completed in time to allow inclusion in the extent-of-play discussions 90 days prior to the REP exercise for which credit is granted. FEMA will grant exemption from evaluation of a specific exercise criterion only once during the six-year cycle for the applicable REP exercise. In addition, FEMA will not consider exemption from evaluation if the emergency response activity for which credit would be sought occurred more than two years before the date of the next scheduled REP exercise.

Dated: April 23, 2002.
Michael D. Brown,
General Counsel.

Table 1, Federal Evaluation Process Matrix, reads as follows:

TABLE 1.—Federal Evaluation Process Matrix¹
Evaluation Area and Sub-Elements | Consolidates REP-14 objective(s) | Minimum frequency ² | Out-of-sequence of exercise scenario | Credit: Radio-logical | Credit: Non-radio-logical | Staff ass't visit
1. Emergency Operations Management | 1, 2, 3, 4, 5, 14, 17, 30 |  |  |  |  |
a. Mobilization |  | Every Exercise | NO | YES | YES | NO
b. Facilities |  | Every Exercise | NO | YES | YES | YES
c. Direction and Control |  | Every Exercise | NO | NO | NO | NO
d. Communications Equipment |  | Every Exercise | NO | NO | NO | NO
e. Equipment and Supplies to Support Operations |  | Every Exercise | YES | YES | NO | YES
2. Protective Action | 5, 7, 9, 14, 15, 16, 17, 26, 28 |  |  |  |  |
a. Emergency Worker Exposure Control |  | Every Exercise | YES | YES | NO | YES
b. Radiological Assessment & Protective Action Recommendations & Decisions for the Plume Phase of the Emergency |  | Every Exercise | NO | YES | NO | NO
c. Protective Action Decisions for the Protection of Special Populations |  | Every Exercise | NO | YES | YES | NO
d. Radiological Assessment and Decisionmaking for the Ingestion Exposure Pathway³ |  | Once in 6 years | NO | YES | NO | NO
e. Radiological Assessment and Decisionmaking Concerning Relocation, Re-entry, and Return³ |  | Once in 6 years | NO | YES | NO | NO
3. Protective Action Implementation | 5, 14, 15, 16, 17, 27, 29 |  |  |  |  |
a. Implementation of Emergency Worker Exposure Control |  | Every Exercise | YES | YES | NO | NO
b. Implementation of KI Decision |  | Once in 6 years | YES | YES | NO | NO
c. Implementation of Protective Actions for Special Populations |  | Once in 6 years | YES | YES | YES | YES
d. Implementation of Traffic and Access Control⁵ |  | Every Exercise | YES | YES | YES | YES
e. Implementation of Ingestion Pathway Decisions |  | Once in 6 years | NO | YES | NO | NO
f. Implementation of Relocation, Re-entry, and Return Decisions |  | Once in 6 years | NO | YES | NO | NO
4. Field Measurement and Analysis | 6, 8, 24, 25 |  |  |  |  |
a. Plume Phase Field Measurements and Analysis |  | Every Full Participation Exercise² | YES | YES | NO | NO
b. Post Plume Phase Field Measurements and Sampling |  | Once in 6 years | YES | YES | NO | NO
c. Laboratory Operations |  | Once in 6 years | YES | YES | NO | NO
5. Emergency Notification and Public Information | 10, 11, 12, 13 |  |  |  |  |
a.1 Activation of the Prompt Alert and Notification System⁵ |  | Every exercise | NO | NO | NO | NO
a.2 Activation of the Prompt Alert and Notification System (Fast Breaking) | 10 |  |  |  |
a.3 Notification of Exception Areas and/or Backup Alert and Notification System within 45 minutes |  | Every exercise | NO | NO | NO | NO
b. Emergency Information and Instructions for the Public and the Media |  | Every exercise | NO | NO | NO | NO
6. Support Operations/Facilities | 18, 19, 20, 21, 22 |  |  |  |  |
a. Monitoring and Decontamination of Evacuees and Emergency Workers and Registration of Evacuees |  | Once in 6 yrs.⁴ | YES | YES | NO | NO
b. Monitoring and Decontamination of Emergency Worker Equipment |  | Once in 6 yrs.⁴ | YES | YES | NO | NO
c. Temporary Care of Evacuees |  | Once in 6 yrs.⁶ | YES | YES | YES | YES
d. Transportation and Treatment of Contaminated Individuals |  | Every 2 years | YES | YES | NO | NO
¹ See Evaluation Criteria for specific requirements.
² Each State within the 10-mile EPZ of a commercial nuclear power site shall fully participate in an exercise jointly with the licensee and appropriate local governments at least every two years. Each State with multiple sites within its boundaries shall fully participate in a joint exercise at some site on a rotational basis at least every two years. When not fully participating in an exercise at a site, the State shall partially participate at that site to support the full participation of the local governments.
³ The plume phase and the post-plume phase (ingestion, relocation, re-entry and return) can be demonstrated separately.
⁴ All facilities must be evaluated once during the six-year exercise cycle.
⁵ Physical deployment of resources is not necessary.
⁶ Facilities managed by the American Red Cross (ARC), under the ARC/FEMA Memorandum of Understanding, will be evaluated once when designated or when substantial changes occur; all other facilities not managed by the ARC must be evaluated once in the six-year exercise cycle.

[FR Doc. 02-11121 Filed 5-3-02; 8:45 am]

BILLING CODE 6718-02-P